DEPARTMENT OF ENERGY

Federal Energy Regulatory Commission

Combined Notice of Filings #1

Take notice that the Commission received the following electric corporate filings:

Docket Numbers: EC22-28-000.

Applicants: Tenaska Alabama Partners, L.P., Tenaska Gateway Partners, Ltd.

Description: Joint Application for Authorization Under Section 203 of the Federal Power Act of Tenaska Alabama Partners, L.P., et al.

Filed Date: 12/23/21.

Accession Number: 20211223-5266.

Comment Date: 5 p.m. ET 1/13/22.

Docket Numbers: EC22-29-000.

Applicants: Pickaway County Solar Project, LLC, Pickaway County II Solar Project, LLC, Buckeye Plains Solar Project, LLC, Buckeye Plains II Solar Project, LLC, Shell New Energies US LLC.

Description: Joint Application for Authorization Under Section 203 of the Federal Power Act of Pickaway County Solar Project LLC, et al.

Filed Date: 12/23/21.

Accession Number: 20211223-5268.

Comment Date: 5 p.m. ET 1/13/22.

Take notice that the Commission received the following electric rate filings:

Docket Numbers: ER10-1585-021; ER10-1594-021; ER10-1597-009; ER10-1617-021; ER10-1624-010; ER10-1628-021; ER10-1632-023; ER12-60-023; ER16-733-012; ER16-1148-012.

Applicants: Tenaska Energía de Mexico, S. de R. L. de C.V., LQA, LLC, Tenaska Power Management, LLC, Tenaska Power Services Co., Texas Electric Marketing, LLC, Tenaska Gateway Partners, Ltd., New Mexico Electric Marketing, LLC, Kiowa Power Partners, LLC, California Electric Marketing, LLC, Alabama Electric Marketing, LLC.

Description: Triennial Market Power Analysis for Southwest Power Pool Inc. Region of Alabama Electric Marketing, LLC, et al.

Filed Date: 12/23/21.

Accession Number: 20211223-5264.

Comment Date: 5 p.m. ET 2/21/22.

Docket Numbers: ER10-2475-025.

Applicants: Nevada Power Company.

Description: Triennial Market Power Analysis for Southwest Region of Nevada Power Company.

Filed Date: 12/23/21.

Accession Number: 20211223-5261.

Comment Date: 5 p.m. ET 2/21/22.

Docket Numbers: ER10-2984-053; ER13-1266-036; ER15-2211-033; ER16-438-007; ER16-1258-005.

Applicants: Grande Prairie Wind, LLC, Marshall Wind Energy LLC, MidAmerican Energy Services, LLC, CalEnergy, LLC, Merrill Lynch Commodities, Inc.

Description: Triennial Market Power Analysis for Southwest Power Pool Inc. Region of Grande Prairie Wind, LLC, et al.

Filed Date: 12/23/21.

Accession Number: 20211223-5265.

Comment Date: 5 p.m. ET 2/21/22.

Docket Numbers: ER18-920-009.

Applicants: Marco DM Holdings, L.L.C.

Description: Triennial Market Power Analysis for Southwest Power Pool Inc. Region of Marco DM Holdings, L.L.C.

Filed Date: 12/23/21.

Accession Number: 20211223-5263.

Comment Date: 5 p.m. ET 2/21/22.

Docket Numbers: ER20-1662-002.

Applicants: Crystal Lake Wind Energy I, LLC.

Description: Compliance filing: Compliance Filing in Docket ER20-1662 to be effective 7/1/2020.

Filed Date: 12/27/21.

Accession Number: 20211227-5040.

Comment Date: 5 p.m. ET 1/17/22.

Docket Numbers: ER20-2471-004.

Applicants: NedPower Mount Storm, LLC.

Description: Compliance filing: NedPower Mount Storm LLC submits tariff filing per 35: Compliance Filing in Docket ER20-2471 to be effective 9/21/2020.

Filed Date: 12/27/21.

Accession Number: 20211227-5043.

Comment Date: 5 p.m. ET 1/17/22.

Docket Numbers: ER20-2543-002.

Applicants: Crystal Lake Wind Energy II, LLC.

Description: Compliance filing: Compliance Filing in Docket ER20-2543 to be effective 10/1/2020.

Filed Date: 12/27/21.

Accession Number: 20211227-5041.

Comment Date: 5 p.m. ET 1/17/22.

Docket Numbers: ER21-2919-000.

Applicants: Camp Grove Wind Farm LLC.

Description: Compliance Update of Camp Grove Wind Farm LLC.

Filed Date: 12/20/21.

Accession Number: 20211220-5276.

Comment Date: 5 p.m. ET 1/10/22.

Docket Numbers: ER22-704-000.

Applicants: Energy Center Dover, LLC and Monitoring Analytics, LLC.

Description: Energy Center Dover, LLC and Monitoring Analytics, LLC, submit for approval a Letter Agreement for use only in the PJM Base Residual Auction for the 2023/2024 Delivery Year.

Filed Date: 11/29/21.

Accession Number: 20211129-0006.

Comment Date: 5 p.m. ET 1/3/22.

Docket Numbers: ER22-727-000.

Applicants: ISO New England Inc., New England Power Pool Participants Committee.

Description: § 205(d) Rate Filing: ISO New England Inc. submits tariff filing per 35.13(a)(2)(iii: Attachment K Extended-Term Planning to be effective 2/25/2022.

Filed Date: 12/27/21.

Accession Number: 20211227-5049.

Comment Date: 5 p.m. ET 1/17/22.

Docket Numbers: ER22-728-000.

Applicants: Pegasus Wind, LLC.

Description: Baseline eTariff Filing: Reactive Power Compensation Filing to be effective 2/25/2022.

Filed Date: 12/27/21.

Accession Number: 20211227-5209.

Comment Date: 5 p.m. ET 1/17/22.

Docket Numbers: ER22-729-000.

Applicants: CPV Retail Energy LP.

Description: Baseline eTariff Filing: Application for Market-Based Rate Authority to be effective 2/26/2022.

Filed Date: 12/27/21.

Accession Number: 20211227-5215.

Comment Date: 5 p.m. ET 1/17/22.

Take notice that the Commission received the following qualifying facility filings:

Docket Numbers: QF22-279-000.

Applicants: St. Joseph's Hospital.

Description: Form 556 of St. Joseph's Hospital.

Filed Date: 12/23/21.

Accession Number: 20211223-5075.

Comment Date: 5 p.m. ET 01/13/22.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: December 27, 2021.
Kimberly D. Bose,
Secretary.

[FR Doc. 2021-28420 Filed 12-30-21; 8:45 am]

BILLING CODE 6717-01-P